DEPARTMENT OF HEALTH AND HUMAN SERVICES

Centers for Disease Control and Prevention

[60Day-03-120]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Survey of Primary Care Physicians Regarding Prostate Cancer Screening—New—National Center for Chronic Disease Prevention and Health Promotion (NCCDPHP), Centers for Disease Control and Prevention (CDC).

Prostate cancer is the most common cancer in men and is the second leading cause of cancer deaths, behind lung cancer. The American Cancer Society estimates that there will be about 220,900 new cases of prostate cancer and about 28,900 deaths in 2003. Although prostate cancer deaths have declined over the past several years, it ranks fifth among deaths from all causes. The digital rectal examination (DRE) and prostate specific antigen (PSA) test are used to screen for prostate cancer. Screening is controversial and many are not in agreement as to whether prostate specific antigen (PSA) based screening, early detection, and later treatment increases longevity. Although major medical organizations are divided on whether men should be routinely screened for this disease, it appears that all of the major organizations recommend discussion with patients about the benefits and risks of screening.

The purpose of this project is to develop and administer a national survey to a sample of American primary care physicians to examine whether or not they: screen for prostate cancer using (PSA and/or DRE), recommend testing and under what conditions, discuss the tests and the risks and benefits of screening with patients, and if their screening practices vary by factors such as age, ethnicity, and family history. This study will examine demographic, social, and behavioral characteristics of physicians as they relate to screening and related issues, including knowledge and awareness, beliefs regarding efficacy of screening and treatment, frequency of screening, awareness of the screening controversy, influence of guidelines from medical, practice and other organizations, and participation and/or willingness to participate in shared decision-making. There is no cost to respondents.

Respondents | Number of respondents | Number of responses/ respondents | Average burden/ response (in hours) | Total burden (in hours)
Primary Care Physician | 1,500 | 1 | 40/60 | 1,000
Total |  |  |  | 1,000

Dated: September 19, 2003.
Thomas A. Bartenfeld,
Acting Associate Director for Policy, Planning and Evaluation, Centers for Disease Control and Prevention.

[FR Doc. 03-24275 Filed 9-24-03; 8:45 am]

BILLING CODE 4163-18-P